DEPARTMENT OF HEALTH AND HUMAN SERVICES

Administration for Children and Families

Submission for OMB Review; Comment Request

Proposed Projects

Title: State- and Local-Level Questionnaire for Project on Collection of Marriage and Divorce Statistics at the National, State and Local Levels.

OMB No.: New Collection.

Description: The Administration for Children and Families and the Office of the Assistant Secretary for Planning and Evaluation in the Department of Health and Human Services propose a study to explore options for the collection of marriage and divorce statistics at the national, state and local levels. The project will include the administering of a questionnaire to state- and local-level officials involved in the reporting and compilation of marriage and divorce vital records.

Respondents: State and local governments, including court officials.

Annual burden Estimates:

Instrument | Number of respondents | Number of responses per respondent | Average per response burden hours | Total burden hours
Marriage/Divorce Vital Statistics Data Systems State-level Survey | 50 | 1 | 1.17 | 58.30
Marriage/Divorce | 195 | 1 | 0.92 | 178.75
Vital Statistics Data Systems Local-level Survey |  |  |  |

Estimated Total Annual Burden Hour:

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: June 20, 2005.
Robert Sargis,
Reports Clearance Officer.

[FR Doc. 05-12642 Filed 6-24-05; 8:45 am]

BILLING CODE 4184-01-M